DEPARTMENT OF TRANSPORTATION

Federal Aviation Administration

14 CFR Part 39

[Docket No. FAA-2016-6928; Directorate Identifier 2016-SW-018-AD]

RIN 2120-AA64

Airworthiness Directives; Airbus Helicopters Deutschland GmbH Helicopters

AGENCY: Federal Aviation Administration (FAA), DOT.

ACTION: Notice of proposed rulemaking (NPRM).

SUMMARY: We propose to adopt a new airworthiness directive (AD) for Airbus Helicopters Deutschland GmbH Helicopters (Airbus Helicopters) Model MBB-BK 117 C-2 and MBB-BK 117 D-2 helicopters. This proposed AD would require installing rivets to the air inlet cover rings (rings). This proposed AD is prompted by reports of rings detaching. The actions of this proposed AD are intended to prevent the unsafe condition on these products.

DATES: We must receive comments on this proposed AD by March 6, 2017.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov by searching for and locating Docket No. FAA-2016-6928; or in person at the Docket Operations Office between 9 a.m. and 5 p.m., Monday through Friday, except Federal holidays. The AD docket contains this proposed AD, the European Aviation Safety Agency (EASA) AD, the economic evaluation, any comments received, and other information. The street address for the Docket Operations Office (telephone 800-647-5527) is in the ADDRESSES section. Comments will be available in the AD docket shortly after receipt.

For service information identified in this proposed rule, contact Airbus Helicopters, 2701 N. Forum Drive, Grand Prairie, TX 75052; telephone (972) 641-0000 or (800) 232-0323; fax (972) 641-3775; or at http://www.airbushelicopters.com/techpub. You may review the referenced service information at the FAA, Office of the Regional Counsel, Southwest Region, 10101 Hillwood Pkwy, Room 6N-321, Fort Worth, TX 76177.

FOR FURTHER INFORMATION CONTACT: Matt Fuller, Senior Aviation Safety Engineer, Safety Management Group, Rotorcraft Directorate, FAA, 10101 Hillwood Pkwy, Fort Worth, TX 76177; telephone (817) 222-5110; email matthew.fuller@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

EASA, which is the Technical Agent for the Member States of the European Union, has issued EASA AD No. 2016-0001, dated January 4, 2016, to correct an unsafe condition for Airbus Helicopters Model MBB-BK 117 C-2, Model MBB-BK117 C-2e, Model MBB-BK117 D-2, and MBB-BK117 D-2m helicopters. EASA advises that a ring detached and got stuck between the air inlet and the cyclic stick on a Model MBB-BK117 C-2 helicopter, restricting the cyclic stick's range of movement. According to EASA, an inspection on another helicopter found a second loose cover ring. EASA states that this condition, if not corrected, could affect the cyclic stick's range of movement, possibly resulting in degraded control of the helicopter. The EASA AD consequently requires inspections and reinforcement of the rings' installation.

Determination

These helicopters have been approved by the aviation authority of Germany and are approved for operation in the United States. Pursuant to our bilateral agreement with Germany, EASA, its technical representative, has notified us of the unsafe condition described in its AD. We are proposing this AD because we evaluated all known relevant information and determined that an unsafe condition is likely to exist or develop on other products of the same type designs.

Related Service Information Under 1 CFR Part 51

We reviewed Airbus Helicopters Alert Service Bulletin (ASB) MBB-BK117 C-2-21A-011 for Model MBB-BK 117 C-2 and Model MBB-BK117 C-2e helicopters and ASB MBB-BK117 D-2-21A-004 for Model MBB-BK 117 D-2 and Model MBB-BK 117 D-2m helicopters. Both ASBs are Revision 0 and dated November 16, 2015. This service information introduces an improved attachment method for the ring using rivets. The ASBs specify inspecting the air inlet to determine whether the ring is loose, and then gluing and riveting the ring to the air inlet at different timeframes, depending on whether it is loose.

This service information is reasonably available because the interested parties have access to it through their normal course of business or by the means identified in the ADDRESSES section.

Proposed AD Requirements

This proposed AD would require within 100 hours time-in-service (TIS), manually inspecting each ring to determine if it is loose. If the ring is loose, this proposed AD would require gluing and riveting the ring on the air inlet. If the ring is not loose, this proposed AD would require, within 400 hours TIS, manually inspecting the ring again to determine if it is loose. If the ring is loose, this proposed AD would require gluing and riveting the ring on the air inlet. If the ring is not loose, this proposed AD would require riveting the ring on the air inlet.

After the effective date of this AD, this proposed AD would prohibit installing an air inlet P/N B212M20C1005 on any helicopter unless the ring has been riveted to the air inlet in accordance with the requirements of this proposed AD.

Differences Between This Proposed AD and the EASA AD

The EASA AD applies to Model MBB-BK117 D-2m helicopters. This proposed AD would not because this model does not have an FAA type certificate. The EASA AD requires compliance for Model MBB-BK117 D-2 helicopters within 400 hours TIS, while this proposed AD would require compliance within 100 hours TIS. The EASA AD requires marking the air inlet with the applicable ASB once it is glued and riveted, while this proposed AD would not.

Costs of Compliance

We estimate that this proposed AD would affect 141 helicopters of U.S. Registry and that labor costs would average $85 per work-hour. Based on these estimates, we expect the following costs:

Manually inspecting the left and right air inlet cover rings would require a half work-hour for a labor cost of $43 per helicopter. No parts would be needed, so the U.S. fleet cost would total $6,063.

Riveting the rings would require 2 work-hours for a labor cost of $170 per helicopter. The cost for parts would be minimal for a U.S. fleet cost of $23,970.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Airbus Helicopters Deutschland GmbH Helicopters: Docket No. FAA-2016-6928; Directorate Identifier 2016-SW-018-AD.

(a) Applicability

This AD applies to Airbus Helicopters Deutschland GmbH Helicopters Model MBB-BK 117C-2 (including configuration C-2e) helicopters, serial number 9004 through 9725, and Model MBB-BK 117D-2 helicopters, serial number 20003 through 20045, certificated in any category, with an air inlet part number (P/N) B212M20C1005 installed.

(b) Unsafe Condition

This AD defines the unsafe condition as a detached air inlet cover ring (ring), which could become stuck between the air inlet and the cyclic stick, restricting movement of the cyclic stick. This condition could result in loss of helicopter control.

(c) Comments Due Date

We must receive comments by March 6, 2017.

(d) Compliance

You are responsible for performing each action required by this AD within the specified compliance time unless it has already been accomplished prior to that time.

(e) Required Actions

(1) Within 100 hours time-in-service (TIS), manually inspect each ring to determine if it is loose. If a ring is loose, before further flight, glue the ring on the air inlet using an adhesive (CM 687 or CM 6044 or equivalent) as shown in Figure 1 of Airbus Helicopters Alert Service Bulletin (ASB) MBB-BK117 C-2-21A-011, Revision 0, dated November 16, 2015 (ASB C-2-21A-011), or ASB MBB-BK117 D-2-21A-004, Revision 0, dated November 16, 2015 (ASB D-2-21A-004), as applicable to your model helicopter. Rivet the ring to the air inlet in accordance with the Accomplishment Instructions, paragraphs 3.B.4.2 through 3.B.4.4 of ASB C-2-21A-011 or paragraphs 3.B.3.2 through 3.B.3.4 of ASB D-2-21A-004.

(2) If a ring is not loose, within 400 hours TIS:

(i) Manually inspect the ring to determine if it is loose. If the ring is loose, before further flight, glue the ring on the air inlet using an adhesive (CM 687 or CM 6044 or equivalent) as shown in Figure 1 of ASB C-2-21A-011 or ASB D-2-21A-004.

(ii) Rivet the ring to the air inlet in accordance with the Accomplishment Instructions, paragraphs 3.B.3.2 through 3.B.3.4 of ASB C-2-21A-011 or paragraphs 3.B.2.2 through 3.B.2.4 of ASB D-2-21A-004.

(3) After the effective date of this AD, do not install an air inlet P/N B212M20C1005 on any helicopter unless the ring has been riveted to the air inlet in accordance with the requirements of this AD.

(f) Alternative Methods of Compliance (AMOCs)

(1) The Manager, Safety Management Group, FAA, may approve AMOCs for this AD. Send your proposal to: Matt Fuller, Senior Aviation Safety Engineer, Safety Management Group, Rotorcraft Directorate, FAA, 10101 Hillwood Pkwy, Fort Worth, TX 76177; telephone (817) 222-5110; email 9-ASW-FTW-AMOC-Requests@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(g) Additional Information

The subject of this AD is addressed in European Aviation Safety Agency (EASA) AD No. 2016-0001, dated January 4, 2016. You may view the EASA AD on the Internet at http://www.regulations.gov in the AD Docket.

(h) Subject

Joint Aircraft Service Component (JASC) Code: 2150, Cabin Cooling System.

Issued in Fort Worth, Texas, on December 21, 2016.
Lance T. Gant,
Manager, Rotorcraft Directorate, Aircraft Certification Service.

[FR Doc. 2016-31865 Filed 1-4-17; 8:45 am]

BILLING CODE 4910-13-P